CHEMICAL SAFETY AND HAZARD INVESTIGATION BOARD

Sunshine Act Meeting

TIME AND DATE: November 14, 2017, 1:00 p.m. EDT.

PLACE: U.S. Chemical Safety and Hazard Investigation Board, 1750 Pennsylvania Ave. NW., Suite 910, Washington, DC 20006.

STATUS: Open to the public.

MATTER TO BE CONSIDERED: The Chemical Safety and Hazard Investigation Board (CSB) will convene a public meeting on November 14, 2017, starting at 1:00 p.m. EDT in Washington, DC, at the CSB offices located at 1750 Pennsylvania Avenue NW., Suite 910. The Board will consider and vote on two calendared notation items:

• 2018-1—change in status of Recommendation R-7 from volume IV of the Macondo Investigation Report, and

• 2018-2—change in status of Recommendation R-15 from volume IV of the Macondo Investigation Report.

Depending on the outcome of the votes on the calendared items, the Board may also discuss or deliberate on:

• The type of product the CSB may prepare if the Board votes to close Macondo Recommendation R7, and

• the type of engagement or activities the CSB may undertake related to Macondo Recommendation R15.

Finally, the Board will hear or provide updates on the following matters:

• Current investigations and schedule for completion of open investigation,

• status of recommendations,

• audits from the CSB Inspector General,

• CSB Annual Action Plan for FY 18,

• important financial and organizational matters, and

• the results of the 2017 Federal Employee Viewpoint Survey.

An opportunity for public comment will be provided.

Additional Information

The meeting is free and open to the public. If you require a translator or interpreter, please notify the individual listed below as the Contact Person for Further Information, at least three business days prior to the meeting.

A conference call line will be provided for those who cannot attend in person. Please use the following dial-in number and confirmation code to join the conference:

Dial In: 1 (630) 691-2748

Confirmation Code: 45886253

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

CONTACT PERSON FOR MORE INFORMATION: Hillary Cohen, Communications Manager, at public@csb.gov or (202) 446-8094. Further information about this public meeting can be found on the CSB Web site at: www.csb.gov.

Dated: October 31, 2017.
Raymond C. Porfiri,
Deputy General Counsel, Chemical Safety and Hazard Investigation Board.

[FR Doc. 2017-24059 Filed 11-1-17; 11:15 am]

BILLING CODE 6350-01-P